DEPARTMENT OF AGRICULTURE

Forest Service

Kootenai National Forest, Lincoln County, Montana; Grizzly Vegetation and Transportation Management Project

AGENCY: Forest Service, USDA.

ACTION: Notice of intent to prepare a supplemental environmental impact statement.

SUMMARY: The Kootenai National Forest will prepare a Supplemental Environmental Impact Statement (SEIS) for the Grizzly Vegetation and Transportation Management Project (Grizzly Project). The Grizzly Project includes vegetation management, fuels reduction, watershed rehabilitation activities, wildlife habitat improvement, and access management changes, including road decommissioning. The project is located in the Grizzly planning subunit on the Three Rivers Ranger District, Kootenai National Forest, Lincoln County, Montana, and northeast of Troy, Montana. The Notice of Availability of the Draft EIS for this project was published in the Federal Register (72 FR 31821) on June 8, 2007, and the notice of the Final EIS (74 FR 24006) on May 22, 2009. The Record of Decision was issued concurrently with the Final EIS. On June 29, 2010, the United States District Court for the District of Montana issued a sixty-nine page decision granting in part and denying in part cross motions for summary judgment in this case which alleged that the Forest Service's authorization of the Grizzly, Miller, and Little Beaver Projects on the Kootenai National Forest violated NEPA, NFMA, and the ESA. Plaintiffs generally alleged that in authorizing these Projects for vegetation management, fuels reduction, watershed restoration, timber harvest, and other purposes, the Forest Service failed to adequately evaluate their impact on the threatened Cabinet-Yaak grizzly bears which inhabit the area. Regarding the Grizzly Vegetation and Transportation Management Project the court found that (1) the agency's conclusion that the Project was consistent with the Kootenai Forest Plan violated NFMA because there was insufficient information in the record to determine whether the Projects complied with the standard for Management Situation 1 lands which require the agency to “favor the needs of the grizzly bear when grizzly habitat and other land use values compete”; and (2) the agency's failure to explain why it used the bear management unit instead of the Forest as the proper level for analysis of cumulative effects and its failure to disclose and discuss the problems with the “Wakkinen Study” regarding grizzly habitat standards violated NEPA's “hard look” requirement. The Court enjoined all three Projects and remanded them to the agency to address the defects identified in its decision. (09-160, D. Mont.). A Supplemental EIS is being prepared for the Grizzly Vegetation and Transportation Management Project to address these disclosures in the grizzly bear analysis.

DATES: Under 40 CFR 1502.9(c)(4), there is no formal scoping period for this proposed action. The supplemental draft environmental impact statement is expected to be available for public review and comment in late November, 2010 and the environmental impact statement is expected in February, 2011.

ADDRESSES: The line officer responsible for this analysis is Cami Winslow, Acting District Ranger, Three Rivers Ranger District, 12385 U.S. Hwy 2, Troy, MT 59935.

FOR FURTHER INFORMATION CONTACT: Contact Kathy Mohar, Team Leader, Three Rivers Ranger District, at (406) 295-4693.

SUPPLEMENTARY INFORMATION: The Grizzly Project Area is approximately 18 air miles northeast of Troy, Montana, within all or portions of T34N, R32W-R33W, T35N, R32W-R33W, and T36N, R32W-R33W, Lincoln County, Montana.

The Grizzly Project Supplemental EIS will provide additional information and disclosures on the grizzly bear analysis in support of the Record of Decision issued in April 2009. More specifically, the Supplemental EIS will provide clarification and additional information on the following disclosures as requested by the District Court of Montana:

1. Why the Bear Management Unit is the appropriate scale of analysis for cumulative effects.

2. Further discussion on the limitations of Wakkinen and Kasworm (1997) utilized as the Best Available Science in regard to grizzly bear habitat protection in the Cabinet-Yaak Ecosystem Grizzly Bear Recovery Zone.

3. Further explanation on how the Grizzly Project was made compatible with grizzly bear needs, consistent with the Kootenai National Forest 1987 Forest Plan.

Record of Decision—Alternative 2a

The Grizzly Project Record of Decision issued in April 2009 authorized the following:

Vegetation treatments: Restoration of western white pine and western larch on 340 acres; restoration of low and moderate intensity fire regime vegetation characteristics on 548 acres; enhancement of aspen habitat on 19 acres; ecosystem and wildlife burning on 468 acres; precommercial thinning on 515 acres. These activities will contribute an estimated 8.2 million board feet of forest products to markets.

Transportation actions: Placing 15.5 miles of road in intermittent stored service status to improve grizzly bear habitat; active decommissioning on 15.4 miles of unneeded road, and storage work on 9.7 miles of road to reduce sediment delivery prior to placing in grizzly bear core habitat; best management practices on 36 miles of road; passive decommissioning of 27 miles of road; designate 65.5 miles of currently open roads as open to motorized use; designate 39 miles of existing trails within grizzly bear habitat for non-motorized use. The proposed action and alternatives were originally described and analyzed in the FEIS, located at http://www.fs.fed.us/r1/kootenai/projects/projects/Grizzly/index.shtml. At this time no new alternatives are expected.

Supplemental Environmental Impact Statement

A Draft SEIS is expected to be available for public review and comment in late November 2010; and a Final SEIS in February 2011. The comment period for the Draft SEIS will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final supplemental environmental impact statement.

To assist the Forest Service in identifying and considering issues and concerns on the proposed action, comments on the Draft SEIS should be as specific as possible. It is also helpful if comments refer to specific pages or chapters of the draft statement. Reviewers may wish to refer to the Council on Environmental Quality Regulations for implementing the procedural provisions of the National Environmental Policy Act at 40 CFR 1503.3 in addressing these points.

Responsible Official: Paul Bradford, Forest Supervisor of the Kootenai National Forest, 31374 US Hwy 2, Libby, MT 59923 is the Responsible Official for the Grizzly Project.

Dated: October 8, 2010.
Paul Bradford,
Forest Supervisor, Kootenai National Forest.

[FR Doc. 2010-25969 Filed 10-14-10; 8:45 am]

BILLING CODE 3410-11-P